SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 8, 2007.

ADDRESSES: Send all comments regarding whether this information collection is necessary for the proper performance of the function of the agency, whether the burden estimates are accurate, and if there are ways to minimize the estimated burden and enhance the quality of the collection, to Carol Fendler, System Accountant, Office of Investment, Small Business Administration, 409 3rd Street, SW., 8th Floor, Washington, DC 20416.

FOR FURTHER INFORMATION CONTACT: Carol Fendler, System Accountant, Office of Investment 202-205-7559 carol.fendler@sba.gov Curtis B. Rich, Management Analyst, 202-205-7030 curtis.rich@sba.gov.

SUPPLEMENTARY INFORMATION: Title: “SBIC Management Assessment Questionnaire & License Application; Exhibits to SBIC License Application/Management Assessment Questionnaire”.

Description of Respondents: Small business investment companies.

Form No's: 2181, 2182, 2183.

Annual Responses: 680.

Annual Burden: 10,880.

Jacqueline White,
Chief, Administrative Information Branch.

[FR Doc. E6-18920 Filed 11-7-06; 8:45 am]

BILLING CODE 8025-01-P